DEPARTMENT OF JUSTICE

Parole Commission

Sunshine Act Meeting

TIME AND DATE: 12:00 a.m., Tuesday, February 13, 2018.

PLACE: U.S. Parole Commission, 90 K Street NE, 3rd Floor, Washington, DC.

STATUS: Closed.

MATTERS TO BE CONSIDERED: Determination on TWO original jurisdiction cases.

CONTACT PERSON FOR MORE INFORMATION: Jacqueline Graham, Staff Assistant to the Chairman, U.S. Parole Commission, 90 K Street NE, 3rd Floor, Washington, DC 20530, (202) 346-7001.

Dated: February 2, 2018.
Patricia K. Cushwa,
Vice Chairman, U.S. Parole Commission.

[FR Doc. 2018-02450 Filed 2-2-18; 4:15 pm]

BILLING CODE 4410-31-P